DEPARTMENT OF COMMERCE

International Trade Administration

(A-588-703, A-570-506, A-583-508, A-507-502, A-580-601, C-580-602, A-583-603, C-583-604)

Internal Combustion Industrial Forklift Trucks from Japan, Porcelain-on-Steel Cooking Ware from China and Taiwan, Raw In-Shell Pistachios from Iran, Top-of-the-Stove Stainless Steel Cooking Ware from Korea and Taiwan; Extension of Time Limits for the Final Results of Sunset Reviews of Antidumping and Countervailing Duty Orders

AGENCY: Import Administration, International Trade Administration, U.S. Department of Commerce.

EFFECTIVE DATE: May 16, 2005.

FOR FURTHER INFORMATION CONTACT: Martha Douthit at 202-482-5050, or Hilary Sadler at 202-482-4340, Import Administration, International Trade Administration, U.S. Department of Commerce, 14th Street & Constitution Avenue, NW., Washington, DC 20230.

SUPPLEMENTARY INFORMATION:

Extension of Time Limit for Final Results of Reviews:

In accordance with section 751(c)(5)(B) of the Tariff Act of 1930, as amended, (“the Act”), the U.S. Department of Commerce, (“the Department”) may extend the period of time for making its determination by not more than 90 days, if it determines that the review is extraordinarily complicated. As set forth in section 751(c)(5)(C)(v) of the Act, the Department may treat a sunset review as extraordinarily complicated if it is a review of a transition order, as is the case in all of these proceedings. A transition order is defined as including countervailing or antidumping duty orders which were in effect on January 1, 1995, the date on which the WTO Agreement's provisions on sunset reviews went into effect. Transition orders are treated as issued on January 1, 1995. See section 751(c)(6)(D) of the Act. These orders were issued prior to January 1, 1995, thus are deemed issued on January 1, 1995, for purposes of the sunset proceeding. Therefore, the Department has determined, pursuant to section 751(c)(5)(C)(v) of the Act, that the sunset reviews of the antidumping and countervailing duty orders on top-of-the-stove stainless steel cooking ware from Korea and Taiwan, the antidumping and countervailing duty orders on porcelain-on-steel cooking ware from China and Taiwan, the antidumping duty order on internal combustion industrial forklift trucks from Japan, and the antidumping duty order on raw in-shell pistachios from Iran are extraordinarily complicated and require additional time for the Department to complete its analysis.

The Department's final results of these sunset reviews were scheduled for June 29, 2005. The Department will extend the deadlines in these proceedings and, as a result, intends to issue the final results of the expedited sunset reviews on the antidumping and countervailing duty orders on top-of-the-stove stainless steel cooking ware from Korea and Taiwan, the antidumping and countervailing duty orders on porcelain-on-steel cooking ware from China and Taiwan, the antidumping duty order on internal combustion industrial forklift trucks from Japan, and the antidumping duty order on raw in-shell pistachios from Iran on September 27, 2005, 90 days from the original scheduled date of the final results of these sunset reviews.

This notice is issued in accordance with sections 751 (c)(5)(B) and (C)(v) of the Act.

Dated: May 10, 2005.
Barbara E. Tillman,
Acting Deputy Assistant Secretary for Import Administration.

[FR Doc. E5-2440 Filed 5-13-05; 8:45 am]

BILLING CODE 3510-DS-S